EXPORT-IMPORT BANK OF THE UNITED STATES

[Public Notice 60]

Agency Information Collection Activities: Submission for OMB Review; Comment Request

AGENCY: Export-Import Bank of the United States.

ACTION: Notice and request for comments.

SUMMARY: The Export-Import Bank, as a part of its continuing effort to reduce paperwork and respondent burden, invites the general public and other Federal agencies to comment on the proposed information collection, as required by the Paperwork Reduction Act of 1995.

DATES: Written comments should be received on or before April 2, 2004, to be assured of consideration.

ADDRESSES: Direct all requests for additional information to Jean Fitzgibbon, Export-Import Bank of the U.S., 811 Vermont Avenue, NW., Washington, DC 20571, (202) 565-3620. Direct all comments to David Rostker, Office of Management and Budget, Office of Information and Regulatory Affairs, NEOB Room 10202, Washington, DC 20503, (202) 395-3897.

SUPPLEMENTARY INFORMATION:

Titles and Form Numbers

Application for Quotation—Export Credit Insurance, Commercial Bank Insureds, EIB 92-34.

Beneficiary Certificate and Agreement, EIB-92-37.

Application for a Financial Institution Buyer Credit Policy, EIB 92-41.

Application for Export Credit Insurance Financing or Operating Lease Coverage, EIB 92-45.

Short-Term Multi-Buyer Export Credit Insurance Policy Application, EIB 92-50.

Exporter's Application for Short-Term Single-Buyer Policy, EIB 92-64.

Broker Registration Form, EIB 92-79.

OMB Number: 3048-0009.

Type of Review: Revision and extension of expiration date.

Need and Use: The information requested enables the applicant to provide Ex-Im Bank with the information necessary to obtain legislatively required assurance of repayment and fulfills other statutory requirements. The forms encompass a variety of export credit insurance policies.

Affected Public: The forms affect all entities involved in the export of U.S. goods and services, including banks, insurance brokers and non-profit or state and local governments acting as facilitators.

Estimated Annual Respondents: 1,762.

Estimated Time per Respondent: 1 hour.

Estimated Annual Burden: 1,762.

Frequency of Reporting or Use: Applications submitted one time, renewals annually.

Dated: January 23, 2004.
Solomon Bush,
Agency Clearance Officer.

BILLING CODE 6690-01-M

[FR Doc. 04-1947 Filed 1-30-04; 8:45 am]

BILLING CODE 6690-01-C